DEPARTMENT OF ENERGY

Federal Energy Regulatory Commission

Combined Notice of Filings—1

Take notice that the Commission has received the following Natural Gas Pipeline Rate and Refund Report filings:

Filings Instituting Proceedings

Docket Numbers: PR16-2-000.

Applicants: Pacific Gas and Electric Company.

Description: Submits tariff filing per 284.123(b)(1) & (g),: eTariff System Migration: Refile Existing Records from Tariff ID 9000 to 9100 to be effective 10/26/2015; Filing Type: 1330.

Filed Date: 10/26/15.

Accession Number: 20151026-5412.

Comments Due: 5 p.m. ET 11/16/15.

284.123(g) Protests Due: 5 p.m. ET 12/28/15.

Docket Numbers: PR16-3-000.

Applicants: Pacific Gas and Electric Company.

Description: Submits tariff filing per 284.123(g)/.224: eTariff System Migration: Cancellation of Tariff ID 9000 to be effective 10/26/2015; Filing Type: 1290.

Filed Date: 10/26/15.

Accession Number: 20151026-5418.

Comments Due: 5 p.m. ET 11/16/15.

284.123(g) Protests Due: 5 p.m. ET 12/28/15.

Docket Numbers: RP16-72-000.

Applicants: Texas Eastern Transmission, LP.

Description: Section 4(d) Rate Filing: Negotiated Rates—BP Energy contracts 911301 and 911302 to be effective 11/1/2015.

Filed Date: 10/26/15.

Accession Number: 20151026-5341.

Comments Due: 5 p.m. ET 11/9/15.

Docket Numbers: RP16-73-000.

Applicants: Natural Gas Pipeline Company of America.

Description: Section 4(d) Rate Filing: Shell Energy Negotiated Rate to be effective 11/1/2015.

Filed Date: 10/27/15.

Accession Number: 20151027-5144.

Comments Due: 5 p.m. ET 11/9/15.

Docket Numbers: RP16-74-000.

Applicants: Natural Gas Pipeline Company of America.

Description: Section 4(d) Rate Filing: Tenaska Marketing Negotiated Rate to be effective 11/1/2015.

Filed Date: 10/27/15.

Accession Number: 20151027-5150.

Comments Due: 5 p.m. ET 11/9/15.

Docket Numbers: RP16-75-000.

Applicants: Natural Gas Pipeline Company of America.

Description: Section 4(d) Rate Filing: Occidental Energy Negotiated Rate to be effective 11/1/2015.

Filed Date: 10/27/15.

Accession Number: 20151027-5157.

Comments Due: 5 p.m. ET 11/9/15.

Docket Numbers: RP16-76-000.

Applicants: Iroquois Gas Transmission System, L.P.

Description: Section 4(d) Rate Filing: 10/27/15 Negotiated Rates—MMGS Inc. (HUB) 7625-89 to be effective 11/1/2015.

Filed Date: 10/27/15.

Accession Number: 20151027-5232.

Comments Due: 5 p.m. ET 11/9/15.

Docket Numbers: RP16-77-000.

Applicants: Iroquois Gas Transmission System, L.P.

Description: Section 4(d) Rate Filing: 10/27/15 Negotiated Rates—Emera Energy Services, Inc. (HUB) 2715-89 to be effective 11/1/2015.

Filed Date: 10/27/15.

Accession Number: 20151027-5244.

Comments Due: 5 p.m. ET 11/9/15.

Docket Numbers: RP16-78-000.

Applicants: Natural Gas Pipeline Company of America.

Description: Section 4(d) Rate Filing: Munich Re Trading Negotiated Rate to be effective 11/1/2015.

Filed Date: 10/27/15.

Accession Number: 20151027-5247.

Comments Due: 5 p.m. ET 11/9/15.

Docket Numbers: RP16-79-000.

Applicants: Transcontinental Gas Pipe Line Company.

Description: Compliance filing 2015 Penalty Sharing Report.

Filed Date: 10/28/15.

Accession Number: 20151028-5116.

Comments Due: 5 p.m. ET 11/9/15.

Docket Numbers: RP16-80-000.

Applicants: MIGC LLC.

Description: Section 4(d) Rate Filing: Quality Spec Change (CO2) to be effective 12/1/2015.

Filed Date: 10/28/15.

Accession Number: 20151028-5118.

Comments Due: 5 p.m. ET 11/9/15.

Docket Numbers: RP16-81-000.

Applicants: Iroquois Gas Transmission System, L.P.

Description: Section 4(d) Rate Filing: 10/28/15 Negotiated Rates—Mercuria Energy Gas Trading LLC (HUB) 7540-89 to be effective 11/1/2015.

Filed Date: 10/28/15.

Accession Number: 20151028-5168.

Comments Due: 5 p.m. ET 11/9/15.

Docket Numbers: RP16-82-000.

Applicants: Iroquois Gas Transmission System, L.P.

Description: Section 4(d) Rate Filing: 10/28/15 Negotiated Rates—Mercuria Energy Gas Trading LLC (RTS) 7540-02 to be effective 11/1/2015.

Filed Date: 10/28/15.

Accession Number: 20151028-5174.

Comments Due: 5 p.m. ET 11/9/15.

Docket Numbers: RP16-83-000.

Applicants: Texas Eastern Transmission, LP.

Description: Section 4(d) Rate Filing: Negotiated Rate—Chevron TEAM2014 Release to Sequent 8938943 to be effective 11/1/2015

Filed Date: 10/28/15.

Accession Number: 20151028-5181.

Comments Due: 5 p.m. ET 11/9/15.

Docket Numbers: RP16-84-000.

Applicants: Algonquin Gas Transmission, LLC.

Description: Section 4(d) Rate Filing: AGT FRQ 2015 FILING to be effective 12/1/2015.

Filed Date: 10/28/15.

Accession Number: 20151028-5256.

Comments Due: 5 p.m. ET 11/9/15.

Docket Numbers: RP16-85-000.

Applicants: Transcontinental Gas Pipe Line Company

Description: Section 4(d) Rate Filing: Negotiated Rates—Cherokee AGL—Replacement Shippers—Nov 2015 to be effective 11/1/2015.

Filed Date: 10/28/15.

Accession Number: 20151028-5279.

Comments Due: 5 p.m. ET 11/9/15.

Docket Numbers: RP16-86-000.

Applicants: Northwest Pipeline LLC.

Description: Section 4(d) Rate Filing: NWP Non-Conforming Service Agreement Filing—Northwest Natural to be effective 11/1/2015.

Filed Date: 10/28/15.

Accession Number: 20151028-5298.

Comments Due: 5 p.m. ET 11/9/15.

Docket Numbers: RP16-87-000.

Applicants: Iroquois Gas Transmission System, L.P.

Description: Section 4(d) Rate Filing: 10/28/15 Negotiated Rates—Freepoint Commodites LLC (RTS) 7250-14 to be effective 11/1/2015.

Filed Date: 10/28/15.

Accession Number: 20151028-5320.

Comments Due: 5 p.m. ET 11/9/15.

Docket Numbers: RP16-88-000.

Applicants: Iroquois Gas Transmission System, L.P.

Description: Section 4(d) Rate Filing: 10/28/15 Negotiated Rates—ConEdison Energy Inc. (HUB) 2275-89 to be effective 11/1/2015.

Filed Date: 10/28/15.

Accession Number: 20151028-5324.

Comments Due: 5 p.m. ET 11/9/15.

Docket Numbers: RP16-89-000.

Applicants: Guardian Pipeline, L.L.C.

Description: Section 4(d) Rate Filing: Revisions to Exhibit A of FT-1 and FT-2 Form of Service Agreements to be effective 11/1/2015.

Filed Date: 10/28/15.

Accession Number: 20151028-5334.

Comments Due: 5 p.m. ET 11/9/15.

Docket Numbers: RP16-90-000.

Applicants: Iroquois Gas Transmission System, L.P.

Description: Section 4(d) Rate Filing: 10/28/15 Negotiated Rates—Sequent Energy Management (HUB) 3075-89 to be effective 11/1/2015.

Filed Date: 10/28/15.

Accession Number: 20151028-5337.

Comments Due: 5 p.m. ET 11/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2015.
Nathaniel J. Davis, Sr.,
Deputy Secretary.

[FR Doc. 2015-28398 Filed 11-6-15; 8:45 am]

BILLING CODE 6717-01-P